DEPARTMENT OF COMMERCE

National Oceanic and Atmospheric Administration

[I.D. 081400B]

Marine Mammals; File No. 753-1599-00

AGENCY: National Marine Fisheries Service (NMFS), National Oceanic and Atmospheric Administration (NOAA), Commerce.

ACTION: Receipt of application for permit.

SUMMARY: Notice is hereby given that Jim Darling, Ph.D., P.O. Box 384, Tofino, B.C., Canada, has requested a scientific research Permit No. 753-1599-00.

DATES: Written or telefaxed comments must be received on or before September 28, 2000.

ADDRESSES: The request and related documents are available for review upon written request or by appointment in the following office(s):

Permits and Documentation Division, Office of Protected Resources, NMFS, 1315 East-West Highway, Room 13705, Silver Spring, MD 20910 (301/713-2289);

Regional Administrator, Alaska Region, NMFS, 709 West 9th Street, 4th Floor, Juneau, Alaska 99801, (907/586-7221);

Regional Administrator, Northwest Region, NMFS, 7600 Sand Point Way NE, Bin C15700, Building 1, Seattle, Washington 98115-0070, (206/526-6150);

Regional Administrator, Southwest Region, NMFS, 501 West Ocean Boulevard, Long Beach, California 90802-4213, (562/980-4000);

Protected Species Coordinator, Pacific Islands Area Office, NMFS, 1601 Kapiolani Boulevard, Suite 1110, Honolulu, Hawaii 96814-4700, (808/973-2937);

Written comments or requests for a public hearing on this request should be submitted to the Chief, Permits and Documentation Division, F/PR1, Office of Protected Resources, NMFS, 1315 East-West Highway, Room 13705, Silver Spring, MD 20910. Those individuals requesting a hearing should set forth the specific reasons why a hearing on this particular amendment request would be appropriate.

Comments may also be submitted by facsimile at 301/713-0376, provided the facsimile is confirmed by hard copy submitted by mail and postmarked no later than the closing date of the comment period. Please note that comments will not be accepted by e-mail or other electronic media.

FOR FURTHER INFORMATION CONTACT: Jill Lewandowski or Jeannie Drevenak, 301/713-2289.

SUPPLEMENTARY INFORMATION: The permit application No. 753-1599-00 is requested under the authority of the Marine Mammal Protection Act of 1972, as amended (16 U.S.C. 1361 et seq.), the Regulations Governing the Taking and Importing of Marine Mammals (50 CFR part 216), the Endangered Species Act of 1973, as amended (16 U.S.C. 1531 et seq.), and the regulations governing the taking, importing, and exporting of endangered and threatened species (50 CFR 222-226).

The applicant requests authorization to conduct research on humpback whales (Megaptera novaeangliae) and gray whales (Eschrichtius robustus)in the state waters of Alaska, Hawaii, Oregon, Washington and/or California. The overall objective of the proposed research is to study the mating behavior, social organization and behavioral ecology of these species. The applicant requests to conduct this research over a five year period.

The applicant specifically requests authorization for (1) 4,000 total annual takes of humpback whales through photo-identification, close approach, incidental harassment, sound recording, aerial photogrammetry and underwater observation with 400 of these annual takes for biopsy sampling; and (2) 500 total annual takes of gray whales through photo-identification, close approach, incidental harassment, sound recording, aerial photogrammetry and underwater observation with 100 of these annual takes for biopsy sampling. The applicant also requests authorization to import collected tissue into the U.S. and dissect/collect tissues, particularly related to sound production systems, of dead humpback and gray whales.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 23, 2000.
Ann D. Terbush,
Chief, Permits and Documentation Division, Office of Protected Resources, National Marine Fisheries Service.

[FR Doc. 00-22067 Filed 8-28-00; 8:45 am]

Billing Code: 3510-22-S